INTERNATIONAL TRADE COMMISSION

[Investigation No. 731-TA-1098 (Preliminary)]

Liquid Sulfur Dioxide From Canada

Determination

On the basis of the record ¹ developed in the subject investigation, the United States International Trade Commission (Commission) determines,² pursuant to section 733(a) of the Tariff Act of 1930 (19 U.S.C. 1673b(a)) (the Act), that there is no reasonable indication that an industry in the United States is materially injured or threatened with material injury, or that the establishment of an industry in the United States is materially retarded, by reason of imports from Canada of liquid sulfur dioxide, provided for in subheading 2811.23.00 of the Harmonized Tariff Schedule of the United States, that are alleged to be sold in the United States at less than fair value (LTFV).

¹ The record is defined in sec. 207.2(f) of the Commission's Rules of Practice and Procedure (19 CFR 207.2(f)).

² Chairman Stephen Koplan dissenting.

Background

On September 30, 2005, a petition was filed with the Commission and the U.S. Department of Commerce (Commerce) by Calabrian Corp., Kingwood, TX, alleging that an industry in the United States is materially injured by reason of LTFV imports of liquid sulfur dioxide from Canada. Accordingly, effective September 30, 2005, the Commission instituted antidumping duty investigation No. 731-TA-1098 (Preliminary).

Notice of the institution of the Commission's investigation and of a public conference to be held in connection therewith was given by posting copies of the notice in the Office of the Secretary, U.S. International Trade Commission, Washington, DC, and by publishing the notice in the Federal Register of October 7, 2005 (70 FR 58747). The conference was held in Washington, DC, on October 20, 2005, and all persons who requested the opportunity were permitted to appear in person or by counsel.

The Commission transmitted its determination in this investigation to the Secretary of Commerce on December 12, 2005. The views of the Commission are contained in USITC Publication 3826 (December 2005), entitled Liquid Sulfur Dioxide from Canada: Investigation No. 731-TA-1098 (Preliminary).

By order of the Commission.
Issued: December 12, 2005.
Marilyn R. Abbott,
Secretary to the Commission.

[FR Doc. E5-7449 Filed 12-15-05; 8:45 am]

BILLING CODE 7020-02-P